DEPARTMENT OF COMMERCE

National Oceanic and Atmospheric Administration

RIN: 0648-XF73

Western Pacific Fishery Management Council; Public Meetings

AGENCY: National Marine Fisheries Service (NMFS), National Oceanic and Atmospheric Administration (NOAA), Commerce.

ACTION: Notice of public meetings.

SUMMARY: This notice advises the public that the Western Pacific Fishery Management Council (Council) will convene meetings of the Mariana Archipelago Advisory Panel, Mariana Archipelago Plan Team and Mariana Archipelago Regional Ecosystem Advisory Panel in Saipan, Northern Mariana Islands and in Guam.

DATES: The meetings dates for Saipan, will be Saturday March 8, 2008, Monday March 10, 2008 and Tuesday March 11, 2008. The meetings dates for Guam will be Wednesday March 12, 2008 Thursday March 13, 2008 and Friday March 14, 2008. For the specific date, time, and agenda for each meeting see SUPPLEMENTARY INFORMATION.

ADDRESSES: All meetings on Saipan will be held at the Pacific Islands Club Hotel on Tum Chalan Tomas P. Sablan Road. All meetings on Guam will be held at the Guam Hilton, 202 Hilton Road, Tumon Bay.

FOR FURTHER INFORMATION CONTACT: Kitty M. Simonds, Executive Director; telephone: (808) 522-8220.

SUPPLEMENTARY INFORMATION: The date, time and agenda for each meeting are as follows:

Saturday, March 8, 2008, 1 p.m. - 5 p.m.

Mariana Archipelago Advisory Panel (Saipan)

1. Status Report on 2007 Advisory Panel Recommendations

2. Upcoming Council Actions

a. Commonwealth of the Northern Mariana Islands (CNMI) & Guam Purse Seine Closed Area

b. CNMI Longline Area Closure

c. Annual Catch Limits (ACLs)

d. Community Development Program (CDP) Options

3. 2007 Magnuson-Stevens Reauthorization

a. Establishing a Community Consultation Process in CNMI

b. Regional Recreational Fishery Data Collection Options

4. Cooperative Research

5. Emerging Fishery & Marine Issues

a. Northern Islands Marine National Monument

b. Military Buildup

c. Status of Research on Marine Resources

d. Proposed Fishery Act

Monday, March 10, 2008, 8:30 a.m. - 5 p.m.

Mariana Archipelago Plan Team (Saipan)

1. Review of Annual Report Module for Northern Mariana Islands

a. Bottomfish

b. Coral Reef

c. Crustaceans

2. Upcoming Council Actions

a. CNMI & Guam Purse Seine Closed Area

b. CNMI Longline Area Closure

c. Annual Catch Limits (ACLs)

d. Community Development Program (CDP) Options

3. 2007 Magnuson-Stevens Reauthorization

a. Establishing a Community Consultation Process in CNMI

b. National Saltwater Angler Registry

4. Research

a. Cooperative Research

b. Archipelagic Wide Research Needs

Tuesday, March 11, 2008, 9 a.m. - 4 p.m.

Mariana Archipelago Regional Ecosystem Advisory Committee (Saipan)

1. Status Report on 2007 REAC Meeting Outcomes

2. Synopsis of Upcoming 140th Council Meeting Actions

3. Community Marine Management Forum

a. Fisheries Development & Seafood Exports

b. Highway Fuel Tax

c. CNMI Coral Reef Local Action Strategies & Accomplishments

d. Micronesian Challenge

e. Northern Islands Marine National Monument

f. Military Build-Up in the Marianas

g. Promoting Indigenous Cultural & Traditional Practices

4. Use of Traditional Knowledge in Marine Resource Management

5. Building a Community Consultation Process

Wednesday, March 12, 2008, 6 p.m. - 9 p.m.

Mariana Archipelago Advisory Panel (Guam)

1. Status Report on 2007 Advisory Panel Recommendations

2. Upcoming Council Actions

a. CNMI & Guam Purse Seine Closed Area

b. CNMI Longline Area Closure

c. Annual Catch Limits (ACLs)

d. Community Development Program (CDP) Options

3. 2007 Magnuson-Stevens Reauthorization

a. Establishing a Community Consultation Process in Guam

b. Regional Recreational Fishery Data Collection Options

4. Cooperative Research

5. Emerging Fishery & Marine Issues

a. Navy Offshore Dumping

b. Military 12 mile Marine Exclusion Zone

c. Report on DAWR's Fish Aggregation Device Program

d. Guam Seashore Reserve Plan

6. Use of Traditional Knowledge in Marine Resource Management

7. Building a Community Consultation Process

Thursday, March 13, 2008, 8:30 a.m. - 5 p.m.

Mariana Archipelago Plan Team (Guam)

1. Review of Annual Report Module for Northern Mariana Islands

a. Bottomfish

b. Coral Reef

c. Crustaceans

2. Upcoming Council Actions

a. CNMI & Guam Purse Seine Closed Area

b. CNMI Longline Area Closure

c. Annual Catch Limits (ACLs)

d. Community Development Program (CDP) Options

3. 2007 Magnuson-Stevens Reauthorization

a. Establishing a Community Consultation Process in Guam

b. National Saltwater Angler Registry

4. Research

a. Cooperative Research

b. Archipelagic Wide Research Needs

Friday, March 14, 2008, 9 a.m. - 4 p.m.

Mariana Archipelago Regional Ecosystem Advisory Committee (Guam)

1. Status of 2007 REAC Meeting Outcomes

2. Synopsis of Upcoming 140th Council Meeting Actions

3. Community Marine Management Forum

a. Update on Merizo Marine Preserve & PCB Contamination

b. Update on Tamuning Public Beach Access

c. Guam Coral Reef Local Action Strategies & Accomplishments

d. Sportsfish Restoration Fund

e. Military Build-Up in the Marianas

4. Use of Traditional Knowledge in Marine Resource Management

5. Building a Community Consultation Process

The order in which agenda items are addressed may change. Public comment periods will be provided throughout each agenda. The Advisory Panels, Plan Teams and Regional Ecosystem Advisory Committees will meet as late as necessary to complete scheduled business.

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: February 19, 2008.
Tracey L. Thompson,
Acting Director, Office of Sustainable Fisheries, National Marine Fisheries Service.

[FR Doc. E8-3298 Filed 2-21-08; 8:45 am]

BILLING CODE 3510-22-S